DEPARTMENT OF HOMELAND SECURITY

Federal Emergency Management Agency

Agency Information Collection Activities: Proposed Collection; Comment Request

AGENCY: Federal Emergency Management Agency, DHS.

ACTION: Notice; 60-day notice and request for comments; Revision of a currently approved collection, OMB Number 1660-0058, FEMA Form 90-58; FEMA Form 90-133; FEMA Form 90-32.

SUMMARY: The Federal Emergency Management Agency, as part of its continuing effort to reduce paperwork and respondent burden, invites the public and other Federal agencies to take this opportunity to comment on a continuing information collection. In accordance with the Paperwork Reduction Act of 1995, this notice seeks comments concerning information collections required for Fire Management Assistance Grant Program (FMAGP) eligibility determinations, grants management, and compliance with other Federal laws and regulations.

SUPPLEMENTARY INFORMATION: FMAGP was established under Section 420 of the Robert T. Stafford Disaster Relief and Emergency Assistance Act, 42 U.S.C. 5187, as amended by section 303 of the Disaster Mitigation Act of 2000, and authorizes the President to provide assistance to any State or local government for the mitigation, management, and control of any fire on public or private forest land or grassland that threatens such destruction as would constitute a major disaster. Title 44 CFR Part 204 specifies the information collections necessary to facilitate the provision of assistance under the Fire Management Assistance Grant Program.

Collection of Information

Title: Fire Management Assistance Grant Program.

Type of Information Collection: Revision of currently approved collection.

OMB Number: 1600-0058.

Form Numbers: FEMA Form 90-58, Request for Fire Management Assistance Declaration; FEMA Form 90-133, Request for Fire Management Assistance Subgrant; FEMA Form 90-32, Principal Advisor's Report.

Abstract: The information collection is used by both State and FEMA Regional staff to facilitate the declaration request and grant administration processes of FMAGP, as well as end of year internal reporting of overall declaration requests and estimated grant outlays. When a State's request for a fire management assistance declaration is denied, the Governor of a State or Governor's Authorized Representative (GAR) may appeal the decision in writing. Applicants are required to notify FEMA of all benefits, actual or anticipated, received from other sources for the same loss for which they are applying to FEMA for assistance. Notification can be accomplished in a letter, accompanied by supporting documentation. Training Sessions are provided primarily for Regional staff and State officials who administer FMAGP for the purpose of instructing and updating attendees on the laws, regulations, policies, and process that govern the program, as well as to discuss any program issues. A State Administrative Plan for FMAGP must be developed annually by the State for the administration of fire management assistance grants. The plan must describe the procedures for the administration of FMAGP, designate the State agency to serve as Grantee, and ensure State compliance with the provisions of law and regulation applicable to fire management assistance grants. Federal assistance under Section 420 of the Stafford Act must be provided in accordance with the FEMA-State Agreement for FMAGP. The State Governor and the Regional Director must sign the Agreement, which contains the necessary terms and conditions consistent with the provisions of applicable laws, executive orders, and regulations, and specifies the type and extent of Federal assistance to be provided. The Agreement is an annual agreement applicable only for the calendar year in which it is signed.

Affected Public: State, local, or Tribal Government.

Estimated Total Annual Burden Hours: 631.5 Hours.

Annual Burden Hours
Project/activity (survey, form(s), focus group, etc.) | Number of respondents | Frequency of responses | Burden hours per respondent | Annual responses | Total annual burden hours
| (A) | (B) | (C) | (D) = (A × B) | (C × D)
FEMA-State Agreement and Amendment | 18 | 1 | 0.083 | 18 | 1.5
State Administrative Plan for Fire Management Assistance | 18 | 1 | 8 | 18 | 144
FEMA Form 90-58, Request for Fire Management Assistance Declaration | 18 | 4 | 1 | 72 | 72
FEMA Form 90-133, Request for Fire Management Assistance Subgrant (Locals Only) | 18 | 4 | 0.167 | 72 | 12
FEMA Form 90-32, Principal Advisor's Report | 18 | 4 | 0.333 | 72 | 24
Appeals | 18 | 4 | 1 | 72 | 72
Duplication of Benefits | 18 | 4 | 1 | 72 | 72
Training Sessions | 18 | 1 | 13 | 18 | 234
Total |  |  |  | 414 | 631.5

Estimated Cost: The estimated annualized cost to respondents based on wage rate categories is $16, 949.46. The estimated annual cost to the Federal Government is $387,795.32.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before June 27, 2008.

ADDRESSES: Interested persons should submit written comments to Office of Management, Records Management Division, Federal Emergency Management Agency, 500 C Street, SW., Washington, DC 20472, Mail Drop Room 301, 1800 S. Bell Street, Arlington, VA 22202.

FOR FURTHER INFORMATION CONTACT: Contact Clifford Brown, Program Specialist, Public Assistance Division, (202) 646-4136 for additional information. You may contact the Records Management Branch for copies of the proposed collection of information at facsimile number (202) 646-3347 or e-mail address: FEMA-Information-Collections@dhs.gov.

Dated: April 21, 2008.
John A. Sharetts-Sullivan,
Director, Records Management Division, Office of Management, Federal Emergency Management Agency, Department of Homeland Security.

[FR Doc. E8-9223 Filed 4-25-08; 8:45 am]

BILLING CODE 9110-10-P